DEPARTMENT OF TRANSPORTATION

Federal Aviation Administration

14 CFR Part 39

[Docket No. 2001-NM-183-AD; Amendment 39-14889; AD 2007-02-02]

RIN 2120-AA64

Airworthiness Directives; McDonnell Douglas Model DC-8-55, DC-8F-54, and DC-8F-55 Airplanes; and Model DC-8-60, DC-8-70, DC-8-60F, and DC-8-70F Series Airplanes

AGENCY: Federal Aviation Administration, DOT.

ACTION: Final rule.

SUMMARY: This amendment adopts a new airworthiness directive (AD), applicable to certain McDonnell Douglas Model DC-8 airplanes. This AD requires a one-time inspection for previous repairs of the aft fuselage skin panel at the longeron 28 skin splice; repetitive inspections for cracks of the same area; and related investigative and corrective actions. This AD also provides optional actions for extending the repetitive inspection intervals. The actions specified by this AD are intended to detect and correct cracks in the aft fuselage skin at the longeron 28 skin splice, which could lead to loss of structural integrity of the aft fuselage, resulting in rapid decompression of the airplane. This action is intended to address the identified unsafe condition.

DATES: Effective February 28, 2007.

The incorporation by reference of certain publications listed in the regulations is approved by the Director of the Federal Register as of February 28, 2007.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION: A proposal to amend part 39 of the Federal Aviation Regulations (14 CFR part 39) to include an airworthiness directive (AD) that is applicable to certain McDonnell Douglas Model DC-8-55, DC-8F-54, and DC-8F-55 airplanes; and Model DC-8-60, DC-8-70, DC-8-60F, and DC-8-70F series airplanes; was published as a supplemental notice of proposed rulemaking (NPRM) in the Federal Register on July 25, 2006 (71 FR 42062). That action proposed to require a one-time inspection for previous repairs of the aft fuselage skin panel at the longeron 28 skin splice; repetitive inspections for cracks of the same area; related investigative and corrective actions; and reporting inspection findings to the manufacturer. That action also proposed to provide optional actions for extending the repetitive inspection intervals.

Comments

Interested persons have been afforded an opportunity to participate in the making of this amendment. Due consideration has been given to the comments received.

Request To Lengthen Inspection Threshold for Certain Airplanes

Air Transport Association (ATA), on behalf of one of its members, UPS, does not agree with the inspection threshold of 12 months for airplanes that have accumulated 24,000 total flight cycles or more as of the effective date of the AD, as specified in paragraph (a)(2) of the supplemental NPRM. The commenters note that all U.S.-registered McDonnell Douglas Model DC-8 airplanes are now freighters, which typically have low cycle utilization. UPS states that, out of a fleet of 47 airplanes, it has found only two instances of cracking in the subject area. The commenter believes that, based on these facts, the 24-month threshold indicated in paragraph (a)(1) of the supplemental NPRM should apply to all airplanes. The commenter believes that changing the threshold would have no adverse effect on airplane safety.

We disagree with the request to lengthen the inspection threshold. In developing an appropriate compliance time for this action, we considered the low utilization rate as one factor. Other factors we considered were a crack finding on an airplane that had accumulated 27,072 total landings, normal scatter associated with fatigue initiation, input from the manufacturer, the difficulty of the inspection, and the urgency associated with the subject unsafe condition. However, according to the provisions of paragraph (f) of the final rule, we may approve requests to adjust the compliance time if the request includes data that prove that the new compliance time would provide an acceptable level of safety. We have not changed the AD in this regard.

Request To Change Incorporation of Certain Information

The Modification and Replacement Parts Association (MARPA) states that, typically, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document; by definition, public laws must be public, which means they cannot rely upon private writings. MARPA is concerned that the failure to incorporate essential service information could result in a court decision invalidating the AD.

MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Parts Manufacturer Approval”) of the Federal Aviation Regulations (14 CFR part 21). MARPA adds that the concept of brevity is now nearly archaic as documents exist more frequently in electronic format than on paper. Therefore, MARPA asks that the service documents deemed essential to the accomplishment of the NPRM be incorporated by reference into the regulatory instrument, and published in DMS.

We do not agree that documents should be incorporated by reference during the NPRM phase of rulemaking. The Office of the Federal Register (OFR) requires that documents that are necessary to accomplish the requirements of the AD be incorporated by reference during the final rule phase of rulemaking. This final rule incorporates by reference the document necessary for the accomplishment of the requirements mandated by this AD. Further, we point out that while documents that are incorporated by reference do become public information, they do not lose their copyright protection. For that reason, we advise the public to contact the manufacturer to obtain copies of the referenced service information.

Additionally, we do not publish service documents in DMS. We are currently reviewing our practice of publishing proprietary service information. Once we have thoroughly examined all aspects of this issue, and have made a final determination, we will consider whether our current practice needs to be revised. However, we consider that to delay this AD action for that reason would be inappropriate, since we have determined that an unsafe condition exists and that the requirements in this AD must be accomplished to ensure continued safety. Therefore, we have not changed the AD in this regard.

Explanation of Change to Cost Impact

We have changed the cost estimate to include estimated costs for all required actions, including the repetitive inspections and the repair.

Conclusion

We have carefully reviewed the available data, including the comments received, and determined that air safety and the public interest require adopting the AD with the change described previously. We have determined that this change will neither increase the economic burden on any operator nor increase the scope of the AD.

Cost Impact

There are approximately 508 airplanes of the affected design in the worldwide fleet. The FAA estimates that 244 airplanes of U.S. registry are affected by this AD. The average labor rate is $80 per work hour.

Estimated Costs
Action | Work hours | Cost per airplane | Fleet cost
Initial Inspection for doubler installation | 2 to 4 | $160 to $320 | $39,040 to $78,080.
Repetitive Inspections (per inspection cycle) | 2 to 8 | $160 to $640 | $39,040 to $156,160.
Repair | 164 to 184 | $13,120 to $14,720 | $3,201,280 to $3,591,680.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2007-02-02 McDonnell Douglas: Amendment 39-14889. Docket 2001-NM-183-AD.

Applicability

McDonnell Douglas Model DC-8-55, DC-8F-54, DC-8F-55, DC-8-61, DC-8-62, DC-8-63, DC-8-61F, DC-8-62F, DC-8-63F, DC-8-71, DC-8-72, DC-8-73, DC-8-71F, DC-8-72F, and DC-8-73F airplanes; certificated in any category; as identified in Boeing Alert Service Bulletin DC8-53A080, dated June 22, 2004.

Compliance

Required as indicated, unless accomplished previously.

To detect and correct cracks in the aft fuselage skin at the longeron 28 skin splice, which could lead to loss of structural integrity of the aft fuselage, resulting in rapid decompression of the airplane, accomplish the following:

One-Time Inspection for Previous Repairs

(a) For all airplanes: At the applicable time in paragraph (a)(1) or (a)(2) of this AD, do a general visual inspection to determine if there are previous repairs of the aft fuselage skin panel at the longeron 28 skin splice; in accordance with the Accomplishment Instructions of Boeing Alert Service Bulletin DC8-53A080, dated June 22, 2004. Then do the applicable actions specified in paragraphs (b) and (c) of this AD.

(1) For airplanes that have accumulated fewer than 24,000 total flight cycles as of the effective date of this AD: Within 24 months after the effective date of this AD or prior to accumulating 24,000 total flight cycles, whichever occurs later.

(2) For airplanes that have accumulated 24,000 total flight cycles or more as of the effective date of this AD: Within 12 months after the effective date of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Repetitive Inspections for Areas That Do Not Have a Previous Repair

(b) For areas that do not have a previous repair: Before further flight after the initial inspection in paragraph (a) of this AD, do general visual and high-frequency eddy current (HFEC) inspections for discrepancies of the unrepaired areas at longeron 28 between the bolted connection of the tail section to forward of the flat aft pressure bulkhead, on both the left and right sides, and do all applicable related investigative and corrective actions before further flight. Do all actions in accordance with the Accomplishment Instructions of Boeing Alert Service Bulletin DC8-53A080, dated June 22, 2004. Repeat the inspections thereafter at intervals not to exceed 2,000 flight cycles until an optional action in paragraph (d) of this AD is accomplished.

Repetitive Inspections and Repair for Areas That Have a Previous Repair

(c) For areas that have a previous repair: Within 24 months after accomplishing the initial inspection in paragraph (a) of this AD, remove the previous repair(s), and install a local repair, in accordance with Boeing DC-8 Service Rework Drawing SR08530032, dated January 13, 2004, including Boeing Parts List PL SR08530032, dated January 7, 2004, Boeing Advance Engineering Order, Advanced Drawing Change A, dated April 1, 2004, and Boeing Engineering Order, dated January 13, 2004. Do the inspections in paragraph (d) of this AD thereafter at the applicable interval specified in paragraph (d)(1) or (d)(2) of this AD.

Optional Actions, Extended Repetitive Inspection Intervals

(d) Installing a full-length preventive modification, doing a full-length repair, or doing a local repair, in accordance with Boeing DC-8 Service Rework Drawing SR08530032, dated January 13, 2004, including Boeing Parts List PL SR08530032, dated January 7, 2004, Boeing Advance Engineering Order, Advanced Drawing Change A, dated April 1, 2004, and Boeing Engineering Order, dated January 13, 2004, ends the repetitive inspection intervals in paragraph (b) of this AD; repeat the inspection thereafter at the applicable interval in paragraph (d)(1) or (d)(2) of this AD.

(1) For airplanes that have internal finger doublers: Within 30,000 flight cycles after doing the optional action, do general visual and HFEC inspections for discrepancies of the unrepaired areas at longeron 28 between the bolted connection of the tail section to forward of the flat aft pressure bulkhead, on both the left and right sides, and do all applicable related investigative and corrective actions before further flight. Do all actions in accordance with the Accomplishment Instructions of Boeing Alert Service Bulletin DC8-53A080, dated June 22, 2004. Repeat the inspections thereafter at intervals not to exceed 5,000 flight cycles.

(2) For airplanes that do not have internal finger doublers: Use the applicable intervals and inspections in paragraph (d)(2)(i) or (d)(2)(ii) of this AD.

(i) For repairs (full-length preventive modification, doing a full-length repair, or doing a local repair) that are 12 inches or less along the longeron: Within 15,000 flight cycles after doing the optional action, use only the external general visual inspection method for discrepancies of the unrepaired areas at longeron 28 between the bolted connection of the tail section to forward of the flat aft pressure bulkhead, on both the left and right sides, and do all applicable related investigative and corrective actions before further flight. Do all actions in accordance with the Accomplishment Instructions of Boeing Alert Service Bulletin DC8-53A080, dated June 22, 2004. Repeat the external general visual inspection thereafter at intervals not to exceed 5,000 flight cycles.

(ii) For repairs (full-length preventive modification, doing a full-length repair, or doing a local repair) that are more than 12 inches in length along the longeron: Within 15,000 flight cycles after doing the optional action, use only the low-frequency eddy current (LFEC) inspection method for cracks of the unrepaired areas at longeron 28 between the bolted connection of the tail section to forward of the flat aft pressure bulkhead, on both the left and right sides, and do all applicable related investigative and corrective actions before further flight. Do all actions in accordance with Boeing DC-8 Service Rework Drawing SR08530032, dated January 13, 2004, including Boeing Parts List PL SR08530032, dated January 7, 2004, Boeing Advance Engineering Order, Advanced Drawing Change A, dated April 1, 2004, and Boeing Engineering Order, dated January 13, 2004. Repeat the LFEC inspection thereafter at intervals not to exceed 10,000 flight cycles, using only LFEC inspection outward along all four edges of the doubler.

Reporting of Results

(e) Submit a report of positive findings of the inspections required by paragraphs (b) and (d) of this AD to Boeing Commercial Airplanes, Manager, Structure/Payloads, Technical and Fleet Support, Service Engineering/Commercial Aviation Services, Long Beach Division, 3855 Lakewood Boulevard, Long Beach, California 90846, at the applicable time specified in paragraph (e)(1) or (e)(2) of this AD. The report must include the inspection results, a description of any discrepancies found, the airplane fuselage number, and the total number of landings and flight hours on the airplane. Information collection requirements contained in this AD have been approved by the Office of Management and Budget (OMB) under the provisions of the Paperwork Reduction Act (44 U.S.C. 3501 et seq.) and have been assigned OMB Control Number 2120-0056.

(1) For airplanes on which the inspection is accomplished after the effective date of this AD: Submit the report within 30 days after performing the inspection.

(2) For airplanes on which the inspection was accomplished prior to the effective date of this AD: Submit the report within 30 days after the effective date of this AD.

Alternative Methods of Compliance (AMOCs)

(f)(1) In accordance with 14 CFR 39.19, the Manager, Los Angeles Aircraft Certification Office (ACO), FAA, is authorized to approve AMOCs for this AD.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

Incorporation by Reference

(g) Unless otherwise specified in this AD, the actions must be done in accordance with Boeing Alert Service Bulletin DC8-53A080, dated June 22, 2004; and Boeing DC-8 Service Rework Drawing SR08530032, dated January 13, 2004, including Boeing Parts List PL SR08530032, dated January 7, 2004, Boeing Advance Engineering Order, Advanced Drawing Change A, dated April 1, 2004, and Boeing Engineering Order, dated January 13, 2004; as applicable. This incorporation by reference was approved by the Director of the Federal Register in accordance with 5 U.S.C. 552(a) and 1 CFR part 51. To get copies of this service information, contact Boeing Commercial Airplanes, Long Beach Division, 3855 Lakewood Boulevard, Long Beach, California 90846, Attention: Data and Service Management, Dept. C1-L5A (D800-0024). To inspect copies of this service information, go to the FAA, Transport Airplane Directorate, 1601 Lind Avenue, SW., Renton, Washington; to the FAA, Los Angeles Aircraft Certification Office, 3960 Paramount Boulevard, Lakewood, California; or to the National Archives and Records Administration (NARA). For information on the availability of this material at the NARA, call (202) 741-6030, or go to http://www.archives.gov/federal_register/code_of_federal_regulations/ibr_locations.html.

Effective Date

(h) This amendment becomes effective on February 28, 2007.

Issued in Renton, Washington, on January 5, 2007.
Ali Bahrami,
Manager, Transport Airplane Directorate, Aircraft Certification Service.

[FR Doc. E7-710 Filed 1-23-07; 8:45 am]

BILLING CODE 4910-13-P